ENVIRONMENTAL PROTECTION AGENCY

[EPA-HQ-OPP-2008-0541; FRL-8374-8]

Cancellation of Pesticides for Non-Payment of Year 2008 Registration Maintenance Fees

AGENCY: Environmental Protection Agency (EPA).

ACTION: Notice.

SUMMARY: Since the amendments of October 1988, the Federal Insecticide, Fungicide, and Rodenticide Act (FIFRA) has required payment of an annual maintenance fee to keep pesticide registrations in effect. The fee due last January 15 has gone unpaid for 221 registrations. Section 4(i)(5)(G) of FIFRA provides that the Administrator may cancel these registrations by order and without a hearing; orders to cancel all 221 of these registrations have been issued within the past few days.

FOR FURTHER INFORMATION CONTACT: John Jamula, Office of Pesticide Programs (7504P), Environmental Protection Agency, 1200 Pennsylvania Avenue NW., Washington, DC 20460; telephone number: (703) 305-6426; e-mail address: jamula.john@epa.gov.

SUPPLEMENTARY INFORMATION:

I. Important Information

A. Does this Apply to Me?

You may be potentially affected by this notice if you are an EPA registrant with any approved product registration(s). Although this action may be of particular interest to persons who produce or use pesticides, the Agency has not attempted to describe all the specific entities that may be affected by this action. If you have any questions regarding the information in this notice, consult the person listed in the For Further Information Contact section.

B. How Can I Get Additional Information or Copies of Support Documents?

1. Docket. EPA has established a docket for this action under docket identification (ID) number EPA-HQ-OPP-2008-0541. Publicly available docket materials are available either in the electronic docket at http://regulations.gov or in hard copy at the Office of Pesticide Programs (OPP) Regulatory Public Docket in Rm. S-4400, One Potomac Yard (South Building), 2777 S. Crystal Drive, Arlington, VA. The hours of operation of this Docket Facility are from 8:30 a.m to 4 p.m., Monday through Friday, excluding legal holidays. The Docket Facility telephone number is (703) 305-5805.

2. Electronic access. You may access this Federal Register document electronically through the EPA Internet under the “Federal Register” listings at http://www.epa.gov/fedrgstr.

II. Introduction

Section 4(i)(5) of FIFRA as amended in October 1988 (Pub. L. 100-December, 1991 (Pub. L. 102-237), and again in August 1996 (Pub. L. 104-170) requires that all pesticide registrants pay an annual registration maintenance fee, due by January 15 of each year, to keep their registrations in effect. This requirement applies to all registrations granted under section 3 as well as those granted under section 24(c) to meet special local needs. Registrations for which the fee is not paid are subject to cancellation by order and without a hearing.

The Food, Agriculture, Conservation, and Trade Act Amendments of 1991, Pub. L. 102-237, amended FIFRA to allow the Administrator to reduce or waive maintenance fees for minor agricultural use pesticides when the Administrator determines that the fee would be likely to cause significant impact on the availability of the pesticide for the use. The Agency has waived the fee for 164 minor agricultural use registrations at the request of the registrants.

In fiscal year 2008, maintenance fees were collected in one billing cycle. The Pesticide Registration Improvement Renewal Act (PRIRA) was passed by Congress in October 2007. PRIRA authorized the Agency to collect $22 million in maintenance fees in fiscal year 2008. In late December 2007, all holders of either section 3 registrations or section 24(c) registrations were sent lists of their active registrations, along with forms and instructions for responding. They were asked to identify which of their registrations they wished to maintain in effect, and to calculate and remit the appropriate maintenance fees. Most responses were received by the statutory deadline of January 15. A notice of intent to cancel was sent in mid-February to companies who did not respond and to companies who responded, but paid for less than all of their registrations. Since mailing the notices, EPA has maintained a toll-free inquiry number through which the questions of affected registrants have been answered.

Maintenance fees have been paid for about 16,116 section 3 registrations, or about 96% of the registrations on file in December. Fees have been paid for about 2,212 section 24(c) registrations, or about 88% of the total on file in December. Cancellations for non-payment of the maintenance fee affect about 191 section 3 registrations and about 30 section 24(c) registrations.

The cancellation orders generally permit registrants to continue to sell and distribute existing stocks of the canceled products until January 15, 2009, 1 year after the date on which the fee was due. Existing stocks already in the hands of dealers or users, however, can generally be distributed, sold, or used legally until they are exhausted. Existing stocks are defined as those stocks of a registered pesticide product which are currently in the U.S. and which have been packaged, labeled, and released for shipment prior to the effective date of the action.

The exceptions to these general rules are cases where more stringent restrictions on sale, distribution, or use of the products have already been imposed, through Special Reviews or other Agency actions. These general provisions for disposition of stocks should serve in most cases to cushion the impact of these cancellations while the market adjusts.

III. Listing of Registrations Canceled for Non-payment

Table 1 lists all of the section 24(c) registrations, and Table 2 lists all of the section 3 registrations which were canceled for non-payment of the 2008 maintenance fee. These registrations have been canceled by order and without hearing. Cancellation orders were sent to affected registrants via certified mail in the past several days. The Agency is unlikely to rescind cancellation of any particular registration unless the cancellation resulted from Agency error.

Table 1.—Section 24(c) Registrations Canceled for Non-Payment of Maintenance Fee
SLN No. | Product Name
067690 AZ-03-0003 | Talus Insect Growth Regulator
059623 CA-02-0018 | GF-120 NF Naturalyte Fruit Fly Bait
071962 CA-03-0011 | Agri-Fos Systemic Fungicide
059623 CA-07-0008 | Spinosad Gf-120 Nf Naturalyte Fruit Fly Bait
011649 CA-78-0131 | Avitrol Mixed Grains
011649 CA-78-0132 | Avitrol Mixed Grains
060255 CA-85-0006 | Thuricide (r) 32lv
060256 CA-97-0011 | Temik Brand 15g Aldicarb Pesticide
071512 ID-06-0011 | Ranman 400SC
055467 KS-04-0010 | Weed Pro Atrazine 4L Herbicide
071512 ME-06-0001 | Ranman 400SC
071512 MN-06-0002 | Ranman 400SC
004787 MS-02-0006 | Glyfos AU Herbicide
075095 MS-04-0012 | Grandslam 4XS Herbicide
055467 MS-05-0013 | Buccaneer Plus Glyphosate Herbicide
075338 MT-07-0003 | CFT Legumine
056907 NC-95-0002 | 8.5% Ethylene Oxide & Carbon Dioxide Sterilizing Gas
071512 ND-06-0001 | Ranman 400SC
008996 NV-06-0001 | Chlorine Liquified Gas Under Pressure
069691 OH-06-0001 | Mushroom Supplement Preservative
067751 OR-94-0001 | Select 2ec Herbicide
075451 PR-02-0001 | Avitrol Powder Mix
068222 SC-94-0006 | Bayleton 50% Wettable Powder
013808 SD-05-0001 | Zinc Phosphide Prairie Dog Bait
067690 TX-04-0021 | Talusa Insect Growth Regulator
004564 TX-07-0006 | Tolcide PS200 (or Bt-20)
000550 UT-01-0004 | Masterline Kontrol 4-4 for Mosquitoes, Flies and Gnats
004787 WA-00-0019 | Declare
073637 WA-01-0022 | Ro-Neet 6-E Selective Herbicide
011678 WA-03-0026 | Thionex 50w Insecticide

Table 2.—Section 3 Registrations Canceled for Non-Payment of Maintenance Fee
Registration No. | Product Name
000099-00024 | Watkins Pine Oil Disinfectant
000358-00105 | Nott Chew-Not
001124-00030 | Sentinel
001190-00024 | Pepcocide Odorless Disinfectant and Sanitizer
001475-00040 | Enoz No Clinging Odor Moth Cake
001757-00066 | Biosperse 240
001757-00099 | Biosperse 3202
002398-00007 | Pronto Lice, Tick and Flea Killing Spray
002686-00008 | Multiquat No. 455
002686-00009 | Sodium Chlorite Solution 25%
003008-00085 | NW 200
003276-00021 | Al - San
003468-00009 | Supreme Oil Insecticide
003536-00004 | H.K Mouse & Rat Bait
004564-00014 | Tolcide MW-10
004787-00038 | Cyren RT
004787-00044 | Atrapa 5E
005042-00031 | RCO Mole Bait
006390-00017 | Vikol Frm Mildew Retardant
006552-00014 | Kay Dee Rabon Block 10 with Rabon Oral Larvacide
007173-00232 | Maki Mini Paraffin Blocks
007173-00248 | Maki Mini Paraffin Block II
007173-00249 | Maki Paraffin Block II
007211-00010 | Pheneen Solution
007946-00019 | Abacide
008002-00001 | Liquinox Start
008325-00018 | Heavy Duty Cleaner & Disinfectant
008576-00012 | Lynx Sanitizer-Pro
008576-00013 | Lynx Sanitizer
008654-00009 | Solucide-02
009367-00039 | 10% Sanitizer
009630-00008 | M-Gard W112
009630-00031 | M-Gard S510
009647-00036 | Myco Sanitizer 64
009754-00004 | Weed-Go Non-Select Weed and Grass Killer
009754-00006 | Sunbugger #6 Spray Concentrate
010292-00029 | STA-PUT 1500 Weed Killer
010807-00106 | Quat-22
011623-00054 | Apollo Cik (Crawling Insect Killer) Spray II
011649-00010 | Avitrol Concentrate
011649-00011 | Avitrol Powder Mix
011656-00051 | Poly-Sul Fungicide-Insecticide-Miticide
012005-00004 | CW-903
015300-00001 | Chemical Treatment Cl-2151
015567-00018 | Pronto Non-Acid Disinfectant Bowl and Bathroom Cleaner
032240-00005 | Crop Cure L-Ii Hay Preservative
033677-00004 | Tolcide Mw-10
033907-00002 | Comfort Zone
034797-00032 | Insect Repellent 100
034797-00082 | Qualis Insecticide Concentrate #4
034810-00001 | Wex-San
034910-00002 | Chlorine Liquefied Gas Under Pressure
034910-00006 | Sodium Hypochlorite 10%
034910-20001 | Sodium Hypochlorite 12.5%
034910-20004 | Sodium Hypochlorite 5.25%
036638-00024 | Nomate Tpw Fiber
038235-00001 | Agri-Sul 95
038635-00002 | L-3 Liquid Algaecide
038811-00005 | Muskol Insect Repellent
038811-00006 | Muskol Insect Repellent Spray
038811-00007 | Muskol Ultra Insect Repellent Spray
040810-00022 | Irgaguard B502 J
041260-00026 | Camp Algaegone Liquid
041260-00046 | Sunshine Swimming Pool Algaecide
041934-20004 | Sodium Hypochlorite Solution 5.25%
044446-00009 | Zot Wasp Spray Formula 2
048867-00001 | Agri-Chlor #1
049517-00006 | Leafex 2
049517-00007 | Leafex-3
050830-00003 | Powderdeet 25
054089-00001 | M7 Roach Killer Mop-On Insecticide
054089-20203 | M5 Boraplus Roach Kill
056159-00009 | Reppers Repellent Grains (Shun Repellent Grain)
056970-00001 | Shipbottom Antifouling Bottom Paint Horizon Blue
057586-20001 | Kenwood Chlor
058035-00013 | Rejex-It Ag-145
058190-00003 | Alfa-Save Special
058616-00003 | Pct 3024
059588-00002 | Culbac Foli-Veg
059894-00004 | GKN-O
059894-00007 | Bactron K-86 Microbiocide
059906-00004 | Syn Tech 2.5% + 10% Insecticide
061667-00001 | Chlorine Liquified Gas Under Pressure
062575-00011 | Global Suffa
062577-00005 | Echols Roach, Ant and Waterbug Killer
063305-00001 | Chromium Trioxide, Anhydrous
064240-00007 | Combat Total Release Fogger III
064240-00011 | Combat Ant and Roach Killer V
064240-00026 | Combat Ant and Roach Killer 8
064240-00043 | Combat Ips
064864-00048 | Pacrite Sodium Hypochlorite 12.5%
064864-00054 | Foamex
065072-00005 | 3540
065072-00006 | KP 3510
065072-00007 | KP 3515
065072-00009 | 9035
067470-00001 | Oxyfume 20
067470-00002 | Oxyfume 80 Sterilant Gas
067470-00003 | Oxyfume 12
067470-00004 | Carboxide Sterilant-Fumigant Gas
067470-00005 | Oxyfume 30
067471-00003 | Pacific Sailor Vinco 42 Antifouling Paint
067471-00005 | Pacific Sailor Vinco 65 Antifouling Paint
067508-00001 | Ronstar 1% with Fertilizer
067649-20002 | Hypo 100
067649-20003 | Hypo 90
068086-00005 | Roach Enderzzz
068265-00001 | Xinix
068506-00003 | Uvaspec Grape Guard
068543-00028 | Bengal Insecticide Granules
068566-00001 | Sodium Hypochlorite Solution
068708-00005 | EC6116a
068708-00007 | EC6108a
069529-00009 | Borasol 45 Liquid
069787-00001 | Super Pepper Guard
070204-00001 | TCI 3100
070204-00002 | TCI-5000
070515-00002 | Lpe E94T
070515-00003 | Signafresh 10ec
071245-00001 | Brawn Anti-Bacterial Multi-Purpose Cleaner
071245-00002 | Spray Disinfectant A
071245-00003 | Spray Disinfectant “b”
071332-00003 | Microbloc (models 7700,7701,is,1m)
071532-00006 | LG Permethrin 3.2 MUP
071532-00013 | LG Permethrin 41% Manufacturing Concentrate
071532-00014 | LG 0.25% Permethrin Granules
071532-00016 | LG Permethrin 0.5% Lawn Insect Granules
071532-00017 | LG Permethrin 0.5% Insect Granules
071537-00001 | C-Pool Natural Balance
071567-00001 | R & M Lawn Spray Concentrate #1
071771-00002 | Messenger T & O
071771-00005 | EBC-353 Seed Treatment
071771-00006 | EBC-354 Seed Treatment
071771-00008 | EBC-281
071771-00009 | EBC-282
072113-00001 | Aggreszor 75 WSP
072113-00002 | Aggreszor 2F
072113-00003 | Aggreszor Perimeter Granules
072113-00004 | Aggreszor 4F
072500-00008 | Kaput-D Mole Gel Bait
074602-00001 | Verox-25
074602-00002 | Verox-5HM
074602-00003 | Verox-8
074602-00005 | Verox-CD40
074602-00006 | Verox-TS31
074602-00007 | Verox-QA2525
074602-00008 | Verox-12.5
074621-00001 | Bug Stomper
074785-00002 | Ant & Roach Protection/Flea & Tick Spray
074986-00001 | Selective Micro Clean-A
075131-00001 | Poultry Miticide Tags
075361-00001 | Bromo-Chloro-Dimethylhydantoin
075675-00001 | Blue Control US
075851-00001 | Thrive Alive B-1
075851-00002 | Rootech Cloning Gel
079427-00001 | Wellcare Adm Masterbatch
079442-00004 | Exosex - GBM
079442-00005 | Exosex - PTB
079442-00008 | Exosex-OLR
079442-00009 | Exosex-Now
080224-00003 | Ovocontrol G
080518-00001 | Rouse
082075-00002 | PS Disinfecting Bathroom Foam
082075-00003 | PS Disinfecting Surface Cleaner
082308-00002 | Alenza Aquatic Glyphosate
082308-00003 | Glyphosate 2% RTU
082803-00001 | Lastcall Eucosmak
082961-00001 | Zenda Spud
083031-00001 | La's Totally Awesome Bleach
083222-00006 | Bifen Ag 2EC
083278-00005 | Pre-Amine 0.58% Plus
083399-00001 | SVP4
083399-00002 | SVP3
083399-00003 | SVP2
083451-00005 | WTB-28 Microbiocide-Algicide
083587-00001 | Smartsilver Nylon Fiber
083875-00001 | Novacide-25
083875-00002 | Novacide-50
083884-00006 | Mitin FF Liquid
083893-00001 | Greenleaf Fertilizer with Weed Control
083893-00002 | Greenleaf Lawn Fertilizer with Weed Control
083893-00003 | Greenleaf Lawn Insect Killer Granules (2% Sevin)
083893-00009 | Greenleaf Lawn & Garden 5% Dust
083893-00010 | Greenleaf Lawn & Garden 10% Dust
083893-00012 | Greenleaf Insecticide Granules (Permethrin 0.25%)
083893-00014 | Greenleaf Grub Killer
083893-00019 | Greenleaf Grub Killer II
083893-00020 | Greenleaf Lawn Insect Control Granules
083997-00003 | 10-9-0 Green F.O. Wood Preservative
084215-00001 | Protex AG Fiber
084517-00002 | Brite 1500

IV. Public Docket

Complete lists of registrations canceled for non-payment of the maintenance fee will also be available for reference during normal business hours in the OPP Regulatory Public Docket, Rm. S-4400, One Potomac Yard (South Building), 2777 S. Crystal Drive, Arlington, VA. Product-specific status inquiries may be made by telephone by calling toll-free 1-800-444-7255.

List of Subjects

Environmental protection.

Dated: July 25, 2008.
Debra Edwards,
Director, Office of Pesticide Programs.

[FR Doc. E8-17928 Filed 8-5-08; 8:45 am]

BILLING CODE 6560-50-S